DEPARTMENT OF THE INTERIOR

National Park Service

Correction: Notice of Boundary Revision at Joshua National Park

AGENCY: National Park Service, Interior.

ACTION: Correction: Notice of boundary revision at Joshua National Park.

SUPPLEMENTARY INFORMATION: In the Federal Register dated October 3, 2008, Volume 73, No. 193, page 57650, information was printed incorrectly. In the first paragraph of the second column, the ninth line down should read Joshua Tree National Park, not Mesa Verde National Park.

Jerry Buckbinder,
Printing Officer.

[FR Doc. E8-23980 Filed 10-8-08; 8:45 am]

BILLING CODE 4310-70-P